ENVIRONMENTAL PROTECTION AGENCY

[EPA-HQ-OPP-2014-0639; FRL-9916-78]

Notice of Receipt of Requests for Amendments To Delete Uses in Certain Pesticide Registrations

AGENCY: Environmental Protection Agency (EPA).

ACTION: Notice.

SUMMARY: In accordance with the Federal Insecticide, Fungicide, and Rodenticide Act (FIFRA), EPA is issuing a notice of receipt of request for amendments by registrants to delete uses in certain pesticide registrations. FIFRA provides that a registrant of a pesticide product may at any time request that any of its pesticide registrations be amended to delete one or more uses. FIFRA further provides that, before acting on the request, EPA must publish a notice of receipt of any request in the Federal Register.

DATES: The deletions in Table 1 are effective November 17, 2014, because the registrants requested a waiver of the 180-day comment period, unless the Agency receives a written withdrawal request on or before November 17, 2014. The Agency will consider a withdrawal request postmarked no later than November 17, 2014. The deletions in Table 2 are effective April 15, 2015, unless the Agency receives a written withdrawal request on or before April 15, 2015. The Agency will consider a withdrawal request postmarked no later than April 15, 2015.

Users of these products who desire continued use on crops or sites being deleted should contact the applicable registrant in Table 1 before November 17, 2014, for the registrants that requested a waiver of the 180-day comment period. Users of these products who desire continued use on crops or sites being deleted should contact the applicable registrant in Table 2 before April 15, 2015.

ADDRESSES: Submit your withdrawal request, identified by docket identification (ID) number EPA-HQ-OPP-2014-0639, by one of the following methods:

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW., Washington, DC 20460-0001; main telephone number: (703) 347-0367; email address: green.christopher@epa.gov.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket ID number EPA-HQ-OPP-2014-0639, is available either electronically through http://www.regulations.gov or in hard copy at the OPP Docket in the EPA/DC, West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces receipt by the Agency of applications from registrants to delete uses in certain pesticide registrations. These registrations are listed in Table 1 & Table 2 of this unit by registration number, product name, active ingredient, and specific uses deleted.

Table 1—Requests for Amendments to Delete Uses in Certain Pesticide Registrations
EPA registration No. | Product name | Active ingredient | Delete from label
264-343 | Larvin Brand Technical Thiodicarb Insecticide | Thiodicarb | Terrestrial food uses: Sweet corn, Leafy vegetables, Broccoli, Cabbage and Cauliflower; Terrestrial non-food uses: Ornamentals & Non-crop areas.
264-718 | Spiromesifen Technical | Spiromesifen | Greenhouse tomatoes.
264-719 | Oberon 2SC Insecticide/Miticide | Spiromesifen | Greenhouse tomatoes.
19713-600 | Drexel Pendimethalin Technical | Pendimethalin | Grass grown for seed.
42750-230 | Captan Technical | Captan | Adhesives, paints & plastics.
45728-12 | Ziram Granuflo | Ziram | Blackberry.
46923-4 | Copper Sulfate Fine Crystals | Copper sulfate pentahydrate | Wood treatment uses.
65217-1 | Biobor JF | 1,3,2-Dioxaborinane, 2,2′-((1-methyl-1,3-propanediyl)bis(oxy))bis(4-methyl- & 1,3,2-Dioxaborinane, 2,2′oxybis(4,4,6-trimethyl- | All wood preservative uses.
84229-16 | Tide Technical Imidacloprid | Imidacloprid | Companion animal.
85678-8 | Captan Technical | Captan | Indoor/Industrial uses in paints, plastics & adhesives.
85678-28 | Captan Technical II | Captan | Indoor/Industrial uses in paints, plastics & adhesives.
87290-44 | Willowood Azoxystrobin 2.08SC | Azoxystrobin | Post-harvest applications.

Users of these products in Table 1, who desire continued use on crops or sites being deleted should contact the applicable registrant before November 17, 2014, because the registrants requested a waiver of the 180-day comment period, to discuss withdrawal of the application for amendment.

This 30-day period will also permit interested members of the public to intercede with registrants prior to the Agency's approval of the deletion.

Table 2—Requests for Amendments to Delete Uses in Certain Pesticide Registrations
EPA registration No. | Product name | Active ingredient | Delete from label
400-565 | Omite 30W | Propargite | Non-bearing avocado use.
11678-1 | Merpan Captan Technical | Captan | Paints, plastics, adhesives, turf (golf course) and sod farm.
19713-258 | Drexel Captan Technical | Captan | Paints, plastics & adhesives.
19713-631 | Drexel Captan Technical 97% | Captan | Coatings, paints, plastics & adhesives.
66330-24 | Captan 4 Flowable | Captan | Turf.
66330-26 | Captan 50 WP | Captan | Turf.
66330-29 | Captan 80 WDG | Captan | Turf.
66330-31 | Captan Technical | Captan | Turf, paints, plastics & adhesives.
66330-54 | Captan Technical | Captan | Turf, paints, plastics & adhesives.
70506-297 | UPI Captan Technical | Captan | Paints, plastics, adhesives & turf.
70506-299 | Captan 80 WDG | Captan | Turf.

Users of these products in Table 2, who desire continued use on crops or sites being deleted should contact the applicable registrant before April 15, 2015 to discuss withdrawal of the application for amendment. This 180-day period will also permit interested members of the public to intercede with registrants prior to the Agency's approval of the deletion.

Table 3 of this unit includes the names and addresses of record for all registrants of the products listed in Table 1 and Table 2 of this unit, in sequence by EPA company number.

Table 3—Registrants Requesting Amendments To Delete Uses in Certain Pesticide Registrations
EPA company No. | Company name and address
264 | Bayer CropScience, LP, 2 T.W. Alexander Drive, P.O. Box 12014, Research Triangle Park, NC 27709.
400 | MacDermid Agricultural Solutions, Inc., c/o Chemtura Corporation, Agent Name: Keller & Heckman, LLP, 1001 G Street NW., Suite 500, Washington, DC 20001.
11678 | Makhteshim Chemical Works, Ltd., Agent Name: Makhteshim Agan of North America, Inc., 3120 Highwoods Blvd., Suite 100, Raleigh, NC 27604.
19713 | Drexel Chemical Company, 1700 Channel Drive, P.O. Box 13327, Memphis, TN 38113-0327.
42750 | Albaugh, LLC, P.O. Box 2127, Valdosta, GA 31604-2127.
45728 | Taminco US, Inc., Agent Name: VJP Consulting, Inc., 21320 Sweet Clover Place, Ashburn, VA 20147.
46923 | Old Bridge Chemicals, Inc., Agent Name: Landis International, Inc., 3185 Madison Highway, P.O. Box 5126, Valdosta, GA 31603-5126.
65217 | Hammonds Fuel Additives, Inc., Agent Name: Delta Analytical Corp., 12510 Prosperity Drive, Suite 160, Silver Spring, MD 20904.
66330 | Arysta LifeScience North America, LLC, 15401 Weston Parkway, Suite 150, Cary, NC 27513.
70506 | United Phosphorus, Inc., 630 Freedom Business Center, Suite 402, King of Prussia, PA 19406.
84229 | Tide International USA, Inc., Agent Name: Pyxis Regulatory Consulting, Inc., 4110 136th St. NW., Gig Harbor, WA 98332.
85678 | RedEagle International, LLC, Agent Name: Wagner Regulatory Associates, Inc., P.O. Box 640, Hockessin, DE 19707.
87290 | Willowood, LLC, Agent Name: Wagner Regulatory Associates, Inc., P.O. Box 640, Hockessin, DE 19707-0640.

III. What is the Agency's authority for taking this action?

Section 6(f)(1) of FIFRA provides that a registrant of a pesticide product may at any time request that any of its pesticide registrations be amended to delete one or more uses. The FIFRA further provides that, before acting on the request, EPA must publish a notice of receipt of any such request in the Federal Register. Thereafter, the EPA Administrator may approve such a request.

IV. Procedures for Withdrawal of Request

Registrants who choose to withdraw a request for use deletion must submit the withdrawal in writing to Christopher Green using the methods in ADDRESSES. The Agency will consider written withdrawal requests postmarked no later than November 17, 2014, for the requests that the registrants requested to waive the 180-day comment period and no later than April 15, 2015, for the requests with a 180-day comment period.

V. Provisions for Disposition of Existing Stocks

The Agency has authorized the registrants to sell or distribute product under the previously approved labeling for a period of 18 months after approval of the revision, unless other restrictions have been imposed, as in special review actions.

Authority: 7 U.S.C. 136 et seq.

Dated: September 18, 2014.
Michael Hardy,
Acting Director, Information Technology and Resources Management Division, Office of Pesticide Programs.

[FR Doc. 2014-24646 Filed 10-16-14; 8:45 am]

BILLING CODE 6560-50-P